DEPARTMENT OF TRANSPORTATION

Federal Highway Administration

Notice of Final Federal Agency Actions on Proposed Highway in California

AGENCY: Federal Highway Administration (FHWA), DOT.

ACTION: Notice of limitation on claims for judicial review of actions by the California Department of Transportation (Caltrans), pursuant to 23 U.S.C. 327, and the Federal Railroad Administration (FRA).

SUMMARY: The FHWA, on behalf of Caltrans, is issuing this notice to announce actions taken by Caltrans and the FRA, that are final within the meaning of 23 U.S.C. 139(l)(1). The actions relate to a proposed highway project, State Route 34 (SR-34) between postmile 6.27 to postmile 6.77, in the City of Oxnard, in the County of Ventura, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before January 7, 2019. If the Federal law that authorizes judicial review of a claim provides a time period of less than 150 days for filing such claim, then that shorter time period still applies.

FOR FURTHER INFORMATION CONTACT: For Caltrans: Susan Tse Koo, Branch Chief, Division of Environmental Planning, California Department of Transportation. Address: 100 S Main Street, MS 16A, Los Angeles, CA 90012. Regular Office Hours M-F 8:00 a.m .to 5:00 p.m., Phone number (213) 897-1821, Email Susan.Tse@dot.ca.gov.

SUPPLEMENTARY INFORMATION: Effective July 1, 2007, the Federal Highway Administration (FHWA) assigned, and the California Department of Transportation (Caltrans) assumed, environmental responsibilities for this project pursuant to 23 U.S.C. 327. Notice is hereby given that the Caltrans and FRA have taken final agency actions subject to 23 U.S.C. 139(l)(1) by issuing licenses, permits, and approvals for the following highway project in the State of California: The City of Oxnard (City), in cooperation with the Ventura County Transportation Commission (VCTC) and the California Department of Transportation (Caltrans), is proposing to construct a grade separation (Project) on Rice Avenue where it crosses over State Route 34 (SR-34) and the Union Pacific Railroad (UPRR) track (Project Area). The actions by the Federal agencies, and the laws under which such actions were taken, are described in the Environmental Assessment with Finding of No Significant Impact (EA, FONSI) for the project, approved on May 16, 2018, and in other documents in the FHWA project records. The EA, FONSI and other project records are available by contacting Caltrans at the addresses provided above. The Caltrans EA, FONSI can be viewed and downloaded from the project website at http://www.dot.ca.gov/d7/env-docs/.

This notice applies to all Federal agency decisions as of the issuance date of this notice and all laws under which such actions were taken, including but not limited to:

1. Memorandum of Understanding with FHWA for NEPA assignment dated, December 23, 2016

2. Safe, Accountable, Flexible and Efficient, Transportation Equity Act, A Legacy for Users (SAFETEA-LU Section 6002)

3. Title VI of the Civil Rights Act of 1967

4. MAP-21 (Pub. L. 112-141)

5. Section 4(f), Department of Transportation Act of 1966

6. Clean Air Act

7. Farmland Protection Policy Act

8. National Historic Preservation Act (NHPA)

9. Uniform Relocation Assistance and Real Property Acquisition Policies Act of 1970 as Amended

(Catalog of Federal Domestic Assistance Program Number 20.205, Highway Planning and Construction. The regulations implementing Executive Order 12372 regarding intergovernmental consultation on Federal programs and activities apply to this program.)

Authority: 23 U.S.C. 139(l)(1).

Matt Schmitz,
Director, Project Delivery, FHWA—CA Division.

[FR Doc. 2018-17113 Filed 8-9-18; 8:45 am]

BILLING CODE 4910-FY-P